DEPARTMENT OF ENERGY

Office of Fossil Energy

[FE Docket Nos. 02-44-NG, 00-23-NG, 02-48-NG, 02-47-NG, 02-49-NG, 01-87-NG, 02-50-NG, 02-52-NG, 02-51-NG, 02-53-NG]

BP West Coast Products, LLC, et al.; Orders Granting, Amending and Vacating Authority To Import and Export Natural Gas, Including Liquefied Natural Gas

AGENCY: Office of Fossil Energy, DOE.

ACTION: Notice of Orders.

SUMMARY: The Office of Fossil Energy (FE) of the Department of Energy gives notice that during July 2002, it issued Orders granting, amending and vacating authority to import and export natural gas, including liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on August 6, 2002.
Clifford P. Tomaszewski,
Manager, Natural Gas Regulation, Office of Natural Gas & Petroleum Import & Export Activities, Office of Fossil Energy.

Appendix; Orders Granting, Amending and Vacating Import/Export Authorizations

DOE/FE Authority
Order No. | Date issued | Importer/exporter FE docket No. | Import volume | Export volume | Comments
1794 | 7-2-02 | BP West Coast Products, LLC, 02-44-NG | 25 Bcf | 25 Bcf | Import and export natural gas from and to Canada, beginning on July 2, 2002, and extending through July 1, 2004.
1794 | 7-2-02 | ARCO Products Company, 00-23-NG |  |  | Vacate of blanket authority.
1795 | 7-2-02 | Sempra Energy Trading Corp., 02-48-NG | 300 Bcf 300 Bcf 300 Bcf | 300 Bcf 300 Bcf | Import and export natural gas from and to Canada, and to import and export from and to Mexico, and to import LNG from various international sources beginning on June 16, 2001, and extending through June 15, 2003.
1796 | 7-3-02 | Conoco Canada Limited, 02-47-NG | 100 Bcf |  | Import and export a combined total of natural gas from and to Canada, beginning on June 1, 2002, and extending through May 31, 2004.
1797 | 7-3-02 | Union Gas Limited, 02-49-NG | 216 Bcf |  | Import and export a combined total of natural gas from and to Canada, beginning on August 15, 2002, and extending through August 14, 2004.
1751-A | 7-23-02 | Sunoco Inc., 01-87-NG |  |  | Vacate of blanket authority.
1798 | 7-23-02 | Marathon Oil Company, 02-50-NG | 100 Bcf |  | Import and export a combined total of natural gas from and to Canada and Mexico, beginning on August 1, 2002, and extending through July 31, 2004.
1799 | 7-29-02 | IGI Resources, Inc., 02-52-NG | 400 Bcf |  | Import natural gas from Canada, beginning on August 1, 2002, and extending through July 31, 2004.
1800 | 7-31-02 | Superior Energy Management, 02-51-NG | 200 Bcf | 200 Bcf | Import and export natural gas from and to Canada, beginning on October 1, 2002, and extending through September 30, 2004.
1801 | 7-31-02 | Emera Energy Services Inc., 02-53-NG | 200 Bcf |  | Import and export a combined total of natural gas from and to Canada, beginning on August 1, 2002, and extending through July 31, 2004.

[FR Doc. 02-20569 Filed 8-13-02; 8:45 am]

BILLING CODE 6450-01-P